GENERAL SERVICES ADMINISTRATION

[OMB Control No. 3090-0021]

Submission for OMB Review; Comment Request Entitled Profit and Loss Statement—Operating Statement

AGENCY: Regional Support Division (PMR), GSA.

ACTION: Notice of request for public comments regarding an extension to an existing OMB clearance (3090-0021).

SUMMARY: Under the provisions of the Paperwork Reduction Act of 1995 (44 U.S.C. chapter 35), the Office of Acquisition Policy will be submitting to the Office of Management and Budget (OMB) a request to review and approve an extension of a currently approved information collection requirement concerning Profit and Loss Statement—Operating Statement. This information collection was published in the Federal Register on May 3, 2000 at 65 FR 25730 allowing for the standard 60-day public comment period. No comments were received.

DATES: Comment Due Date: August 16, 2000.

ADDRESSES: Comments regarding this burden estimate or any other aspect of this collection of information, including suggestions for reducing this burden, should be submitted to: Edward Springer, GSA Desk Officer, Room 3235, NEOB, Washington, DC 20503 and also may be submitted to Marjorie Ashby, General Services Administration (MVP), Room 4011, 1800 F Street NW., Washington, DC 20405.

FOR FURTHER INFORMATION CONTACT: Deborah Purdie, (202) 501-4226.

SUPPLEMENTARY INFORMATION:

A. Purpose

The Profit and Loss Statement—Operating Statement is the financial planning document in an offeror's proposal to perform a GSA cafeteria service contract and its contents are one factor considered by the contracting officer in deciding to award a contract. The GSA Form 2817 is also the non-ADP financial reporting vehicle used by cafeteria contractors.

B. Annual Reporting Burden

Respondents: 250; annual responses: 250; average hours per response: 1; burden hours: 250.

Copy of Proposal: A copy of this proposal may be obtained from the GSA Acquisition Policy Division (MVP), Room 4011, GSA Building, 1800 F Street NW., Washington, DC 20405, or by telephoning (202) 501-3822.

Dated: July 7, 2000.
David A. Drabkin,
Deputy Associate Administrator for Acquisition Policy.

[FR Doc. 00-18035 Filed 7-14-00; 8:45 am]

BILLING CODE 6820-61-M